DEPARTMENT OF THE INTERIOR

National Park Service

[NPS-NCR-CATO-0911-8221; 3201-241a-726]

Notification of Boundary Revision

AGENCY: National Park Service, Department of the Interior.

ACTION: Notification of boundary revision.

SUMMARY: Notice is hereby given that the boundary of Catoctin Mountain Park in Frederick County, Maryland is modified to include one (1) tract of land located along the southeastern border of the park. This revision is made to include privately-owned property that the National Park Service (NPS) wishes to acquire from a willing seller. The NPS has determined that inclusion of the tract within the park's boundary will make significant contributions to the purposes for which the park was established. After the United States' acquisition of the tract, the NPS will manage the property in accordance with applicable law.

FOR FURTHER INFORMATION CONTACT: Mel Poole, Superintendent, Catoctin Mountain Park, 6602 Foxville Road, Thurmont, Maryland 21788-1598.

DATES: The effective date of this boundary revision is the date of publication in the Federal Register.

SUPPLEMENTARY INFORMATION: Executive Order 7496, dated November 14, 1936, transferred all the real property acquired by the former Resettlement Administration, which included the former Catoctin Recreational Demonstration Area, to the Secretary of the Interior (Secretary), and authorized the Secretary, through the NPS, to administer the projects transferred by the aforementioned Executive Order. Section 7(c) of the Land and Water Conservation Fund Act, as amended, authorizes minor boundary revisions to areas within the National Park System after advising the House Committee on Natural Resources and the Senate Committee on Energy and Natural Resources of the proposed boundary revision. The Secretary advised the Committees of this proposed boundary revisions by letters dated July 29, 2011. This action will add one tract comprising 17.0917 acres of improved land, more or less, to Catoctin Mountain Park. The acquisition of this tract is intended to enhance the park's natural and ecological integrity and provide for greater recreational opportunities. The tract is identified as Parcel 2276 on Frederick County, Maryland, Tax Map 752.

Notice is hereby given that the exterior boundary of the park is hereby revised to include one (1) tract of land identified as Tract 01-1 17. The parcel is a portion of the same land acquired by Mr. Donald L. Lewis by deed dated December 16, 1963, and recorded among the Land Records of Frederick County, Maryland, in Liber 697, Folio 51, subject to existing easements for public roads and highways, public utilities, railroads, and pipelines.

The referenced tract is depicted on Catoctin Mountain Park Land Acquisition Status Map Segment 01, having Drawing Number 841/80476. This map is on file at the National Park Service, Land Resources Program Center, National Capital Region, and at the Office of the Superintendent, Catoctin Mountain Park.

Dated: September 12, 2011.
Stephen E. Whitesell,
Regional Director, National Capital Region.

[FR Doc. 2012-3727 Filed 2-16-12; 8:45 am]

BILLING CODE 4312-59-P